DEPARTMENT OF ENERGY

Federal Energy Regulatory Commission

Combined Notice of Filings #2

Take notice that the Commission received the following electric rate filings:

Docket Numbers: ER19-1644-004.

Applicants: Richland-Stryker Generation LLC.

Description: Refund Report: Refund Report.

Filed Date: 2/10/26.

Accession Number: 20260210-5075.

Comment Date: 5 p.m. ET 3/3/26.

Docket Numbers: ER20-681-009; ER20-681-010; ER20-681-011; ER20-681-012; ER20-681-014.

Applicants: Tri-State Generation and Transmission Association, Inc.

Description: Errata to Change in Status and Triennial Market Power Analyses of Tri-State Generation and Transmission Association, Inc.

Filed Date: 2/3/26.

Accession Number: 20260203-5169.

Comment Date: 5 p.m. ET 2/24/26.

Docket Numbers: ER20-681-015.

Applicants: Tri-State Generation and Transmission Association, Inc.

Description: Notice of Change in Status of Tri-State Generation and Transmission Association, Inc.

Filed Date: 2/2/26.

Accession Number: 20260202-5256.

Comment Date: 5 p.m. ET 2/23/26.

Docket Numbers: ER25-2308-003.

Applicants: Magnolia Power LLC.

Description: Notice of Non-Material Change in Status of Magnolia Power LLC.

Filed Date: 2/2/26.

Accession Number: 20260202-5258.

Comment Date: 5 p.m. ET 2/23/26.

Docket Numbers: ER26-729-001.

Applicants: Vaca Dixon BESS LLC.

Description: Tariff Amendment: Deficiency Letter Response to be effective 2/10/2026.

Filed Date: 2/10/26.

Accession Number: 20260210-5095.

Comment Date: 5 p.m. ET 3/3/26.

Docket Numbers: ER26-730-001.

Applicants: Arges BESS LLC.

Description: Tariff Amendment: Deficiency Letter Response to be effective 2/10/2026.

Filed Date: 2/10/26.

Accession Number: 20260210-5096.

Comment Date: 5 p.m. ET 3/3/26.

Docket Numbers: ER26-964-001.

Applicants: Midcontinent Independent System Operator, Inc.

Description: Tariff Amendment: 2026-02-10 SA 4654 Entergy AR-SWPA IOA Sub Certificate of Concurrence to be effective 1/1/2026.

Filed Date: 2/10/26.

Accession Number: 20260210-5150.

Comment Date: 5 p.m. ET 3/3/26.

Docket Numbers: ER26-1316-000.

Applicants: Southwest Power Pool, Inc.

Description: § 205(d) Rate Filing: Revisions to Schedule 1-B of the Markets+ Tariff to be effective 12/31/9998.

Filed Date: 2/10/26.

Accession Number: 20260210-5062.

Comment Date: 5 p.m. ET 3/3/26.

Docket Numbers: ER26-1317-000.

Applicants: PJM Interconnection, L.L.C.

Description: § 205(d) Rate Filing: Original GIA, SA No. 7858; Project Identifier No. AF2-388 to be effective 1/14/2026.

Filed Date: 2/10/26.

Accession Number: 20260210-5093.

Comment Date: 5 p.m. ET 3/3/26.

Docket Numbers: ER26-1318-000.

Applicants: Midcontinent Independent System Operator, Inc.

Description: § 205(d) Rate Filing: 2025-02-10_SA 4676 ITC-Washtenaw Solar GIA (S1067) to be effective 2/6/2026.

Filed Date: 2/10/26.

Accession Number: 20260210-5122.

Comment Date: 5 p.m. ET 3/3/26.

Docket Numbers: ER26-1319-000.

Applicants: AEP Texas Inc.

Description: § 205(d) Rate Filing: AEPTX-Industrial Bravo Project Amended Generation Interconnection Agreement to be effective 1/26/2026.

Filed Date: 2/10/26.

Accession Number: 20260210-5128.

Comment Date: 5 p.m. ET 3/3/26.

Docket Numbers: ER26-1320-000.

Applicants: Duke Energy Carolinas, LLC.

Description: Tariff Amendment: DEC-SCPSA—Termination of RS No. 689 to be effective 4/12/2026.

Filed Date: 2/10/26.

Accession Number: 20260210-5132.

Comment Date: 5 p.m. ET 3/3/26.

Docket Numbers: ER26-1321-000.

Applicants: Pastoria Power, LLC.

Description: Initial rate filing: Certificate of Concurrence and Request for Waiver to be effective 2/11/2026.

Filed Date: 2/10/26.

Accession Number: 20260210-5134.

Comment Date: 5 p.m. ET 3/3/26.

Docket Numbers: ER26-1322-000.

Applicants: Pastoria Solar Energy Company, LLC.

Description: Initial rate filing: Certificate of Concurrence and Request for Waiver to be effective 2/11/2026.

Filed Date: 2/10/26.

Accession Number: 20260210-5138.

Comment Date: 5 p.m. ET 3/3/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 10, 2026.
Carlos D. Clay,
Deputy Secretary.

[FR Doc. 2026-02940 Filed 2-12-26; 8:45 am]

BILLING CODE 6717-01-P